DEPARTMENT OF ENERGY

Federal Energy Regulatory Commission

[Docket No. ER02-1086-000, et al.]

Midwest Independent Transmission System Operator, Inc., et al.; Electric Rate and Corporate Regulation Filings

March 1, 2002.

Take notice that the following filings have been made with the Commission. Any comments should be submitted in accordance with Standard Paragraph E at the end of this notice.

1. Midwest Independent Transmission System Operator, Inc.

[Docket No. ER02-1086-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by TXU Energy Trading Company.

A copy of this filing was sent to TXU Energy Trading Company.

Comment Date: March 19, 2002.

2. Midwest Independent Transmission System Operator, Inc.

[Docket No. ER02-1087-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Aquila Energy Marketing Corporation.

A copy of this filing was sent to Aquila Energy Marketing Corporation.

Comment Date: March 19, 2002.

3. Midwest Independent Transmission System Operator, Inc.

[Docket No. ER02-1088-000]

Take notice that on February 26, 2002, pursuant to section 205 of the Federal Power Act and §35.13 of the Federal Energy Regulatory Commission's (Commission) regulations, 18 CFR 35.13, the Midwest Independent Transmission System Operator, Inc. (Midwest ISO) submitted for filing a Service Agreements for the transmission service requested by Cargill-Alliant, LLC.

A copy of this filing was sent to Cargill-Alliant, LLC.

Comment Date: March 19, 2002.

4. Midwest Independent Transmission System Operator, Inc.

[Docket No. ER02-1089-000]

Take notice that on February 26, 2002, pursuant to section 205 of the Federal Power Act and §35.13 of the Federal Energy Regulatory Commission's (Commission) regulations, 18 CFR 35.13, the Midwest Independent Transmission System Operator, Inc. (Midwest ISO) submitted for filing a Service Agreements for the transmission service requested by Split Rock Energy LLC.

A copy of this filing was sent to Split Rock Energy LLC.

Comment Date: March 19, 2002.

5. Midwest Independent Transmission System Operator, Inc.

[Docket No. ER02-1090-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Reliant Energy Services Inc.

A copy of this filing was sent to Reliant Energy Services Inc.

Comment Date: March 19, 2002.

6. Midwest Independent Transmission System Operator, Inc.

[Docket No. ER02-1091-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Wisconsin Public Service Corporation.

A copy of this filing was sent to Wisconsin Public Service Corporation.

Comment Date: March 19, 2002.

7. Midwest Independent Transmission System Operator, Inc.

[Docket No. ER02-1092-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Southern Indiana Gas and Electric Company.

A copy of this filing was sent to Southern Indiana Gas and Electric Company.

Comment Date: March 19, 2002.

8. Midwest Independent Transmission System Operator, Inc.

[Docket No. ER02-1093-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Cinergy Services, Inc. (CPMT).

A copy of this filing was sent to CPMT.

Comment Date: March 19, 2002.

9. Midwest Independent Transmission System Operator, Inc.

[Docket No. ER02-1094-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Entergy-Koch Trading, LP.

A copy of this filing was sent to Entergy-Koch Trading, LP.

Comment Date: March 19, 2002.

10. Midwest Independent Transmission System Operator, Inc.

[Docket No. ER02-1095-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Central Illinois Light Company (CILM).

A copy of this filing was sent to CILM.

Comment Date: March 19, 2002.

11. Midwest Independent Transmission System Operator, Inc.

[Docket No. ER02-1096-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Consolidated Water Power Company.

A copy of this filing was sent to Consolidated Water Power Company.

Comment Date: March 19, 2002.

12. Midwest Independent Transmission System Operator, Inc.

[Docket No. ER02-1097-000]

Take notice that on February 26, 2002, pursuant to section 205 of the Federal Power Act and § 35.13 of the Federal Energy Regulatory Commission's (Commission) Regulations, 18 CFR 35.13, the Midwest Independent Transmission System Operator, Inc. (Midwest ISO) submitted for filing a Service Agreements for the transmission service requested by Alliant Energy Corporate Services.

A copy of this filing was sent to Alliant Energy Corporate Services.

Comment Date: March 19, 2002.

13. Midwest Independent Transmission System Operator, Inc.

[Docket No. ER02-1098-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by AES New Energy, Inc.

A copy of this filing was sent to AES New Energy, Inc.

Comment Date: March 19, 2002.

14. Midwest Independent Transmission System Operator, Inc.

[Docket No. ER02-1099-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Wisconsin Public Power Inc.

A copy of this filing was sent to Wisconsin Public Power Inc.

Comment Date: March 19, 2002.

15. Midwest Independent Transmission System Operator, Inc.

[Docket No. ER02-1100-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by The Energy Authority.

A copy of this filing was sent to The Energy Authority.

Comment Date: March 19, 2002.

16. Midwest Independent Transmission System Operator, Inc.

[Docket No. ER02-1101-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by American Electric Power Service Corporation.

A copy of this filing was sent to American Electric Power Service Corporation.

Comment Date: March 19, 2002.

17. Midwest Independent Transmission System Operator, Inc.

[Docket No. ER02-1102-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Hoosier Energy, Inc.

A copy of this filing was sent to Hoosier Energy, Inc. Comment Date: March 19, 2002.

18. Midwest Independent Transmission System Operator, Inc.

[Docket No. ER02-1103-000]

Take notice that on February 26, 2002, pursuant to section 205 of the Federal Power Act and § 35.13 of the Federal Energy Regulatory Commission's (Commission) Regulations, 18 CFR 35.13, the Midwest Independent Transmission System Operator, Inc. (Midwest ISO) submitted for filing a Service Agreements for the transmission service requested by Northern States Power Company.

A copy of this filing was sent to Northern States Power Company.

Comment Date: March 19, 2002.

19. Midwest Independent Transmission System Operator, Inc.

[Docket No. ER02-1104-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Upper Peninsula Power Co.

A copy of this filing was sent to Upper Peninsula Power Co.

Comment Date: March 19, 2002.

20. Midwest Independent Transmission System Operator, Inc.

[Docket No. ER02-1105-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Exelon Generation Company, LLC.

A copy of this filing was sent to Exelon Generation Company, LLC.

Comment Date: March 19, 2002.

21. Midwest Independent Transmission System Operator, Inc.

[Docket No. ER02-1106-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Otter Tail Corporation.

A copy of this filing was sent to Otter Tail Corporation.

Comment Date: March 19, 2002.

22. Midwest Independent Transmission System Operator, Inc.

[Docket No. ER02-1107-000]

Take notice that on February 26, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Sempra Energy Trading Corp.

A copy of this filing was sent to Sempra Energy Trading Corp.

Comment Date: March 19, 2002.

23. Midwest Independent Transmission System Operator, Inc.

[Docket No. ER02-1108-000]

Take notice that on February 26, 2002, pursuant to section 205 of the Federal Power Act and § 35.13 of the Federal Energy Regulatory Commission's (Commission) Regulations, 18 CFR 35.13, the Midwest Independent Transmission System Operator, Inc. (Midwest ISO) submitted for filing a Service Agreements for the transmission service requested by GEN-SYS Energy.

A copy of this filing was sent to GEN-SYS Energy.

Comment Date: March 19, 2002.

24. Midwest Independent Transmission System Operator, Inc.

[Docket No. ER02-1109-000]

Take notice that on February 26, 2002, pursuant to section 205 of the Federal Power Act and §35.13 of the Federal Energy Regulatory Commission's (Commission) regulations, 18 CFR 35.13, the Midwest Independent Transmission System Operator, Inc. (Midwest ISO) submitted for filing a Service Agreements for the transmission service requested by CMS Marketing, Services and Trading Company.

A copy of this filing was sent to CMS Marketing, Services and Trading Company.

Comment Date: March 19, 2002.

25. Midwest Independent Transmission System Operator, Inc.

[Docket No. ER02-1112-000]

Take notice that on February 26, 2002, pursuant to section 205 of the Federal Power Act and §35.13 of the Federal Energy Regulatory Commission's (Commission) regulations, 18 CFR 35.13, the Midwest Independent Transmission System Operator, Inc. (Midwest ISO) submitted for filing a Service Agreements for the transmission service requested by Madison Gas & Electric Company.

A copy of this filing was sent to Madison Gas & Electric Company.

Comment Date: March 19, 2002.

26. Midwest Independent Transmission System Operator, Inc.

[Docket No. ER02-1110-000]

Take notice that on February 26, 2002, pursuant to section 205 of the Federal Power Act and Section 35.13 of the Federal Energy Regulatory Commission's (Commission) regulations, 18 CFR 35.13, the Midwest Independent Transmission System Operator, Inc. (Midwest ISO) submitted for filing a Service Agreements for the transmission service requested by Duke Energy Trading & Marketing.

A copy of this filing was sent to Duke Energy Trading & Marketing.

Comment Date: March 19, 2002.

27. Midwest Independent Transmission System Operator, Inc.

[Docket No. ER02-1111-000]

Take notice that on February 26, 2002, pursuant to section 205 of the Federal Power Act and §35.13 of the Federal Energy Regulatory Commission's (Commission) Regulations, 18 CFR 35.13, the Midwest Independent Transmission System Operator, Inc. (Midwest ISO) submitted for filing a Service Agreements for the transmission service requested by Lincoln Electric System.

A copy of this filing was sent to Lincoln Electric System.

Comment Date: March 19, 2002.

28. Midwest Independent Transmission System Operator, Inc.

[Docket No. ER02-1120-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Missouri River Energy Services.

A copy of this filing was sent to Missouri River Energy Services.

Comment Date: March 20, 2002.

29. Midwest Independent Transmission System Operator, Inc.

[Docket No. ER02-1121-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Southern Illinois Power Cooperative.

A copy of this filing was sent to Southern Illinois Power Cooperative.

Comment Date: March 20, 2002.

30. Midwest Independent Transmission System Operator, Inc.

[Docket No. ER02-1122-000]

Take notice that on February 27, 2002, pursuant to section 205 of the Federal Power Act and §35.13 of the Federal Energy Regulatory Commission's (Commission) Regulations, 18 CFR 35.13, the Midwest Independent Transmission System Operator, Inc. (Midwest ISO) submitted for filing a Service Agreements for the transmission service requested by Utilities Plus.

A copy of this filing was sent to Utilities Plus.

Comment Date: March 20, 2002.

31. Midwest Independent Transmission System Operator, Inc.

[Docket No. ER02-1123-000]

Take notice that on February 27, 2002, pursuant to section 205 of the Federal Power Act and §35.13 of the Federal Energy Regulatory Commission's (Commission) Regulations, 18 CFR 35.13, the Midwest Independent Transmission System Operator, Inc. (Midwest ISO) submitted for filing a Service Agreements for the transmission service requested by Springfield, IL (City of) (CWL&P).

A copy of this filing was sent to Springfield, IL (City of) (CWL&P).

Comment Date: March 20, 2002.

32. Midwest Independent Transmission System Operator, Inc.

[Docket No. ER02-1124-000]

Take notice that on February 27, 2002, pursuant to section 205 of the Federal Power Act and § 35.13 of the Federal Energy Regulatory Commission's (Commission) Regulations, 18 CFR 35.13, the Midwest Independent Transmission System Operator, Inc. (Midwest ISO) submitted for filing a Service Agreements for the transmission service requested by Indiana Municipal Power Agency.

A copy of this filing was sent to Indiana Municipal Power Agency.

Comment Date: March 20, 2002.

33. Midwest Independent Transmission System Operator, Inc.

[Docket No. ER02-1125-000]

Take notice that on February 27, 2002, pursuant to section 205 of the Federal Power Act and §35.13 of the Federal Energy Regulatory Commission's (Commission) Regulations, 18 CFR 35.13, the Midwest Independent Transmission System Operator, Inc. (Midwest ISO) submitted for filing a Service Agreements for the transmission service requested by FirstEnergy Solutions Corp.

A copy of this filing was sent to FirstEnergy Solutions Corp.

Comment Date: March 20, 2002.

34. Midwest Independent Transmission System Operator, Inc.

[Docket No. ER02-1126-000]

Take notice that on February 27, 2002, pursuant to section 205 of the Federal Power Act and §35.13 of the Federal Energy Regulatory Commission's (Commission) Regulations, 18 CFR 35.13, the Midwest Independent Transmission System Operator, Inc. (Midwest ISO) submitted for filing a Service Agreements for the transmission service requested by Minnesota Municipal Power Agency.

A copy of this filing was sent to Minnesota Municipal Power Agency.

Comment Date: March 20, 2002.

35. Midwest Independent Transmission System Operator, Inc.

[Docket No. ER02-1127-000]

Take notice that on February 27, 2002, pursuant to section 205 of the Federal Power Act and §35.13 of the Federal Energy Regulatory Commission's (Commission) Regulations, 18 CFR 35.13, the Midwest Independent Transmission System Operator, Inc. (Midwest ISO) submitted for filing a Service Agreements for the transmission service requested by Minnesota Power.

A copy of this filing was sent to Minnesota Power.

Comment Date: March 20, 2002.

36. Midwest Independent Transmission System Operator, Inc.

[Docket No. ER02-1128-000]

Take notice that on February 27, 2002, pursuant to section 205 of the Federal Power Act and §35.13 of the Federal Energy Regulatory Commission's (Commission) Regulations, 18 CFR 35.13, the Midwest Independent Transmission System Operator, Inc. (Midwest ISO) submitted for filing a Service Agreements for the transmission service requested by Dairyland Power Cooperative.

A copy of this filing was sent to Dairyland Power Cooperative.

Comment Date: March 20, 2002.

37. Midwest Independent Transmission System Operator, Inc.

[Docket No. ER02-1129-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Strategic Energy LLC.

A copy of this filing was sent to Strategic Energy LLC.

Comment Date: March 20, 2002.

38. Midwest Independent Transmission System Operator, Inc.

[Docket No. ER02-1130-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Manitowoc Public Utilities.

A copy of this filing was sent to Manitowoc Public Utilities.

Comment Date: March 20, 2002.

39. Midwest Independent Transmission System Operator, Inc.

[Docket No. ER02-1131-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Southern Minnesota Municipal Power Agency.

A copy of this filing was sent to Southern Minnesota Municipal Power Agency.

Comment Date: March 20, 2002.

40. Midwest Independent Transmission System Operator, Inc.

[Docket No. ER02-1132-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Northwestern Wisconsin Electric Company.

A copy of this filing was sent to Northwestern Wisconsin Electric Company.

Comment Date: March 20, 2002.

41. Midwest Independent Transmission System Operator, Inc.

[Docket No. ER02-1133-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Allegheny Energy.

A copy of this filing was sent to Allegheny Energy.

Comment Date: March 20, 2002.

42. Midwest Independent Transmission System Operator, Inc.

[Docket No. ER02-1134-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Illinois Municipal Electric Agency.

A copy of this filing was sent to Illinois Municipal Electric Agency.

Comment Date: March 20, 2002.

43. Midwest Independent Transmission System Operator, Inc.

[Docket No. ER02-1135-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Central Illinois Light Company (CILR).

A copy of this filing was sent to Central Illinois Light Company (CILR).

Comment Date: March 20, 2002.

44. Midwest Independent Transmission System Operator, Inc.

[Docket No. ER02-1136-000]

Take notice that on February 27, 2002, pursuant to section 205 of the Federal Power Act and § 35.13 of the Federal Energy Regulatory Commission's (Commission) regulations, 18 CFR 35.13, the Midwest Independent Transmission System Operator, Inc. (Midwest ISO) submitted for filing a Service Agreements for the transmission service requested by Edison Mission Marketing & Trading, Inc.

A copy of this filing was sent to Edison Mission Marketing & Trading, Inc.

Comment Date: March 20, 2002.

45. Midwest Independent Transmission System Operator, Inc.

[Docket No. ER02-1137-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Indianapolis Power & Light Company.

A copy of this filing was sent to Indianapolis Power & Light Company.

Comment Date: March 20, 2002.

46. Midwest Independent Transmission System Operator, Inc.

[Docket No. ER02-1138-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by Montana-Dakota Utilities Company.

A copy of this filing was sent to Montana-Dakota Utilities Company.

Comment Date: March 20, 2002.

47. Midwest Independent Transmission System Operator, Inc.

[Docket No. ER02-1139-000]

Take notice that on February 27, 2002, pursuant to section 205 of the Federal Power Act and §35.13 of the Federal Energy Regulatory Commission's (Commission) regulations, 18 CFR 35.13, the Midwest Independent Transmission System Operator, Inc. (Midwest ISO) submitted for filing a Service Agreements for the transmission service requested by MidAmerican Energy Company (MECB).

A copy of this filing was sent to MidAmerican Energy Company (MECB).

Comment Date: March 20, 2002.

48. Cambridge Electric Light Company

[Docket No. ER02-1140-000]

Take notice that on February 27, 2002, Cambridge Electric Light Company (Cambridge Electric) tendered for filing a firm point-to-point transmission service agreement between Cambridge Electric and Mirant Americas Energy Marketing, LP (Mirant). Cambridge Electric states that the service agreement sets out the transmission arrangements under which Cambridge Electric will provide firm point-to-point transmission service to Mirant under Cambridge Electric's open access transmission tariff accepted for filing in Docket No. ER01-2291-001.

Cambridge Electric requests effective date of February 1, 2002.

Comment Date: March 20, 2002.

49. El Paso Electric Company

[Docket No. ER02-1141-000]

Take notice that on February 27, 2002, El Paso Electric Company (El Paso) tendered for filing with the Federal Energy Regulatory Commission (Commission) a Service Agreement with Arizona Electric Power Cooperative, Inc. for Firm Transmission Service under El Paso's Open Access Transmission Tariff. El Paso requests that the proposed Service Agreement be permitted to become effective on January 24, 2002. El Paso states that this filing is in accordance with part 35 of the Commission's regulations, 18 part CFR part 35, and that a copy has been served on the Texas Public Utility Commission.

Comment Date: March 20, 2002.

50. El Paso Electric Company

[Docket No. ER02-1142-000]

Take notice that on February 27, 2002, El Paso Electric Company (El Paso) tendered for filing with the Federal Energy Regulatory Commission (Commission) a Service Agreement with Arizona Electric Power Cooperative, Inc. for Non-Firm Transmission Service under El Paso's Open Access Transmission Tariff. El Paso requests that the proposed Service Agreement be permitted to become effective on January 24, 2002. El Paso states that this filing is in accordance with part 35 of the Commission's regulations, 18 CFR part 35, and that a copy has been served on the Texas Public Utility Commission.

Comment Date: March 20, 2002.

51. Virginia Electric and Power Company

[Docket No. ER02-1143-000]

Take notice that on February 27, 2002, Virginia Electric and Power Company (Dominion Virginia Power) tendered for filing with the Federal Energy Regulatory Commission (Commission) Notice of Termination of Service Agreement with GPU Advance Resources, Inc. designated as First Revised Service Agreement No. 165 under FERC Electric Tariff, Third Revised Volume No. 4.

Dominion Virginia Power respectfully requests a waiver of the Commission's regulation to permit a retroactive effective date of January 29, 2002, as requested by GPU Advance Resources, Inc. Copies of the filing were served upon the GPU Advance Resources, Inc., Virginia State Corporation Commission and the North Carolina Utilities Commission.

Comment Date: March 20, 2002.

52. Jersey Central Power & Light Company, Metropolitan Edison Company, Pennsylvania Electric Company

[Docket No. ER02-1144-000]

Take notice that on February 27, 2002, Jersey Central Power & Light Company, Metropolitan Edison Company and Pennsylvania Electric Company (individually doing business as GPU Energy) submitted for filing a Notice of Cancellation of the Service Agreement between GPU Energy and Merchant Energy Group of the Americas, Inc., FERC Electric Rate Schedule, Second Revised Volume No. 5, Service Agreement No. 16. GPU Energy requests that cancellation be effective the 26th day of April 2002.

Comment Date: March 20, 2002.

53. Foothills Generating, L.L.C.

[Docket No. ER02-1145-000]

Take notice that on February 27, 2002, Foothills Generating, L.L.C. (Foothills) tendered for filing a service agreement (Power Purchase and Sales Agreement) covering transactions between Foothills and Dynegy Power Marketing, Inc. Under Foothills' market-based rate schedule, to be in effect as of February 1, 2002.

Comment Date: March 20, 2002.

54. Bluegrass Generation Company, L.L.C.

[Docket No. ER02-1146-000]

Take notice that on February 27, 2002, Bluegrass Generation Company, L.L.C. (Bluegrass) tendered for filing a service agreement (Power Purchase and Sales Agreement) covering transactions between Bluegrass and Dynegy Power Marketing, Inc. Under Bluegrass' market-based rate schedule, to be in effect as of February 1, 2002.

Comment Date: March 20, 2002.

55. Rolling Hills Generating, L.L.C.

[Docket No. ER02-1147-000]

Take notice that on February 27, 2002, Rolling Hills Generating, L.L.C. (Rolling Hills) tendered for filing a service agreement (Power Purchase and Sales Agreement) covering transactions between Rolling Hills and Dynegy Power Marketing, Inc. under Rolling Hills market-based rate schedule, to be in effect as of February 1, 2002.

Comment Date: March 20, 2002.

56. Renaissance Power, L.L.C.

[Docket No. ER02-1148-000]

Take notice that on February 27, 2002, Renaissance Power, L.L.C. (Renaissance) tendered for filing a service agreement (Power Purchase and Sales Agreement) covering transactions between Renaissance and Dynegy Power Marketing, Inc. under Renaissance's market-based rate schedule, to be in effect as of February 1, 2002.

Comment Date: March 20, 2002.

57. ISO New England Inc.

[Docket No. ER02-1149-000]

Take notice that on February 27, 2002, ISO New England Inc. submitted as a Section 205 filing in the above docket revisions to Market Rules 1, 2, 3, 4, 5, 6, 8, 9, 15 and 17, with a requested effective date of May 1, 2002.

Comment Date: March 20, 2002.

58. PJM Interconnection, L.L.C.

[Docket No. ER02-1150-000]

Take notice that on February 27, 2002, PJM Interconnection, L.L.C. (PJM) tendered for filing additional minor revisions to Schedules 1A, 7, and 8 of the PJM Open Access Transmission Tariff (PJM Tariff) necessary to reflect the addition of Rockland Electric Company (Rockland) to the PJM control area and markets effective March 1, 2002.

PJM requests an effective date of March 1, 2002 for these tariff revisions, to ensure that these revisions are effective at the same time as the Rockland transfer. PJM states that copies of this filing have been served on all PJM Members and the state electric regulatory commissions in the PJM control area.

Comment Date: March 20, 2002.

59. Entergy Services, Inc.

[Docket No. ER02-1151-000]

Take notice that on February 27, 2002, Entergy Services, Inc., on behalf of Entergy Arkansas, Inc., tendered for filing an unexecuted Interconnection and Operating Agreement with Plum Point Energy Associates, LLC (Plum Point), and a Generator Imbalance Agreement with Plum Point.

Comment Date: March 20, 2002.

60. Midwest Independent Transmission System Operator, Inc.

[Docket No. ER02-1152-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Dynegy Power Marketing, Inc.

A copy of this filing was sent to Dynegy Power Marketing, Inc.

Comment Date: March 21, 2002.

61. Midwest Independent Transmission System Operator, Inc.

[Docket No. ER02-1153-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Great River Energy.

A copy of this filing was sent to Great River Energy.

Comment Date: March 21, 2002.

62. Midwest Independent Transmission System Operator, Inc.

[Docket No. ER02-1154-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by NorthPoint Energy Solutions Inc.

A copy of this filing was sent to NorthPoint Energy Solutions Inc.

Comment Date: March 21, 2002.

63. Midwest Independent Transmission System Operator, Inc.

[Docket No. ER02-1155-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Wisconsin Electric Power Company.

A copy of this filing was sent to Wisconsin Electric Power Company.

Comment Date: March 21, 2002.

64. Midwest Independent Transmission System Operator, Inc.

[Docket No. ER02-1156-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by American Municipal Power-Ohio, Inc.

A copy of this filing was sent to American Municipal Power-Ohio, Inc.

Comment Date: March 21, 2002.

65. Midwest Independent Transmission System Operator, Inc.

[Docket No. ER02-1157-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Williams Energy Marketing & Trading Company.

A copy of this filing was sent to Williams Energy Marketing & Trading Company.

Comment Date: March 21, 2002.

66. Midwest Independent Transmission System Operator, Inc.

[Docket No. ER02-1158-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Louisville Gas and Electric Company/Kentucky Utilities.

A copy of this filing was sent to Louisville Gas and Electric Company/Kentucky Utilities.

Comment Date: March 21, 2002.

67. Midwest Independent Transmission System Operator, Inc.

[Docket No. ER02-1159-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Cinergy Services, Inc. (CIN).

A copy of this filing was sent to Cinergy Services, Inc. (CIN).

Comment Date: March 21, 2002.

68. Midwest Independent Transmission System Operator, Inc.

[Docket No. ER02-1160-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Basin Electric Power Cooperative.

A copy of this filing was sent to Basin Electric Power Cooperative.

Comment Date: March 21, 2002.

69. Midwest Independent Transmission System Operator, Inc.

[Docket No. ER02-1161-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Manitoba Hydro.

A copy of this filing was sent to Manitoba Hydro.

Comment Date: March 21, 2002.

70. Midwest Independent Transmission System Operator, Inc.

[Docket No. ER02-1162-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by Wabash Valley Power Association, Inc.

A copy of this filing was sent to Wabash Valley Power Association, Inc.

Comment Date: March 21, 2002.

71. Midwest Independent Transmission System Operator, Inc.

[Docket No. ER02-1163-000]

Take notice that on February 28, 2002, pursuant to section 205 of the Federal Power Act and §35.13 of the Federal Energy Regulatory Commission's (Commission) regulations, 18 CFR 35.13, the Midwest Independent Transmission System Operator, Inc. (Midwest ISO) submitted for filing a Service Agreements for the transmission service requested by LG&E Energy Marketing Inc.

A copy of this filing was sent to LG&E Energy Marketing Inc.

Comment Date: March 21, 2002.

72. Pedricktown Cogeneration Limited Partnership; TXU Energy Company LLC

[Docket No. EC02-53-000]

Take notice that on February 27, 2002, Pedricktown Cogeneration Limited Partnership (Pedricktown) and TXU Energy Company LLC (TXU Energy) (collectively the Applicants) filed with the Federal Energy Regulatory Commission a joint application pursuant to section 203 of the Federal Power Act for authorization of indirect disposition of control over certain jurisdictional facilities. Under the proposed transaction, TXU Energy will acquire one hundred percent of the partnership interests in Pedricktown, and will indirectly acquire control over certain jurisdictional facilities including, Pedricktown's pending market-based rate schedule, certain interconnection facilities, generator step-up transformers, and generator leads.

Pedricktown is engaged exclusively in the business of owning and operating a 122 MW steam turbine electric generating facility located in Pedricktown, New Jersey (the Facility). The Applicants request privileged treatment by the Commission of the Acquisition Agreement between Javelin Pedrick General Corporation, Javelin Pedrick Limited, LLC, and Javelin Pedrick Limited II, LLC, and TXU Energy that governs the proposed transfer.

Comment Date: March 20, 2002.

73. Pacific Gas and Electric Company

[Docket No. ER01-833-000]

Take notice that on February 28, 2002, Pacific Gas and Electric Company (PG&E) tendered for filing a Further Request for Deferral of Consideration of the unexecuted Wholesale Distribution Tariff (WDT) Service Agreement and Interconnection Agreement between Pacific Gas and Electric Company and Modesto Irrigation District (MID) filed in FERC Docket No. ER01-833-000 on December 29, 2000. PG&E and Modesto are finalizing the WDT Service Agreement and a letter agreement for review and signature, and PG&E therefore is notifying the Commission that executed agreements will not be filed by November 30, 2001, the requested deferral date. PG&E requests that the Commission defer consideration of the proceedings filed in ER01-833-000 to August 26, 2001, 180 days beyond the last request for Deferral in order that the parties may finalize and executed the Agreements.

Copies of this filing have been served upon MID, the California Independent System Operator Corporation, and the California Public Utilities Commission.

Comment Date: March 21, 2002.

74. Southern Indiana Gas & Electric Company

[Docket No. ER01-3063-001]

Take notice that on February 28, 2002, Southern Indiana Gas & Electric Company (SIGECO) tendered for filing a revised supplement to its interim settlement with Alcoa Power Generating, Inc. (APGI) concerning SIGECO's Rate Schedule FPC No. 29. The revised supplement extends the interim settlement which was scheduled to terminate on February 28, 2002, for two months through April 30, 2002.

Copies of the filing were served upon APGI and the Indiana Utility Regulatory Commission.

Comment Date: March 21, 2002.

75. CinCap VII, LLC

[Docket Nos. ER02-319-002 and ER00-1831-004]

Take notice that on February 26, 2002, CinCap VII, LLC tendered for filing a letter providing additional information regarding its notice of change in status and an amendment to the market-based rate tariff and code of conduct originally filed in this Docket on November 13, 2001.

Comment Date: March 19, 2002.

76. CinCap Madison, LLC

[Docket Nos. ER02-322-003 and ER00-1784-005]

Take notice that on February 26, 2002, CinCap Madison, LLC tendered for filing a letter providing additional information regarding its notice of change in status and an amendment to the market-based rate tariff and code of conduct originally filed in this Docket on November 13, 2001.

Comment Date: March 19, 2002.

77. KeySpan-Ravenswood, Inc.

[Docket No. ER02-1113-000]

Take notice that on February 26, 2002, KeySpan-Ravenswood, Inc. (Ravenswood) filed a notice of cancellation of its FERC Electric Tariff Original Volume No. 2 and the unexecuted service agreement thereunder designated as Service Agreement No. 1 filed under FERC Electric Tariff Original Volume No. 2 effective on March 28, 2002.

Comment Date: March 19, 2002.

78. Exelon Generation Company, LLC

[Docket No. ER02-1114-000]

Take notice that on February 26, 2002, Exelon Generation Company, LLC (Exelon Generation), submitted for filing a power sales service agreement between Exelon Generation and El Paso Merchant Energy, LP, under Exelon Generation's wholesale power sales tariff, FERC Electric Tariff Original Volume No. 2

Comment Date: March 19, 2002.

79. Wisconsin Electric Power Company

[Docket No. ER02-1115-000]

Take notice that on February 26, 2002, Wisconsin Electric Power Company (Wisconsin Electric) tendered for filing with the Federal Energy Regulatory Commission (Commission or FERC), a Notice of Cancellation effective January 1, 2001 of an Interconnection and Interchange Agreement, designated as Rate Schedule FERC No. 78 on September 16, 1994, between Wisconsin Electric and Wisconsin Power and Light Company.

Comment Date: March 19, 2002.

80. Cinergy Services, Inc.

[Docket No. ER02-1116-000]

Take notice that on February 26, 2002, Cinergy Services, Inc. (Cinergy) and Griffin Energy Marketing, L.L.C. filed a request for cancellation of Service Agreement No. 203, under Cinergy Operating Companies, FERC Electric Cost-Based Power Sales Tariff, FERC Electric Tariff Original Volume No. 6.

Cinergy requests an effective date of February 25, 2002.

Comment Date: March 19, 2002.

81. American Electric Power Service Corporation

[Docket No. ER02-1117-000]

Take notice that on February 26, 2002, American Electric Power Service Corporation on behalf of Ohio Power Company (OPCO) submitted for filing an executed Interconnection and Operation Agreement, dated January 18, 2002, between OPCO and Lawrence Energy Center LLC (Lawrence). The agreement is pursuant to the AEP Companies' Open Access Transmission Service Tariff (OATT) that has been designated as the Operating Companies of the American Electric Power System FERC Electric Tariff Second Revised Volume No. 6, effective June 15, 2000.

OPCO requests an effective date of February 1, 2002.

Copies of OPCO's filing have been served upon the Public Utilities Commission of Ohio and Lawrence Energy Center LLC.

Comment Date: March 19, 2002.

82. Continental Electric Cooperative Services, Inc.

[Docket No. ER02-1118-000]

Take notice that on February 26, 2002, Continental Electric Cooperative Services, Inc. (CCS) tendered for filing with the Federal Energy Regulatory Commission an Application for Market-Based Rate Authorization.

Comment Date: March 19, 2002.

83. Garnet Energy LLC [Docket No. ER02-1119-000]

Take notice that on February 27, 2002, Garnet Energy LLC (Garnet) filed a Application for Market-Based Rate Authority with the Federal Regulatory Commission (the Commission) seeking acceptance of Garnet's FERC Rate Schedule No. 1 and the granting of certain blanket approvals, including the authority to sell energy and capacity at market-based rates and the waiver of certain Commission regulations. The request for market-based rate authority is limited to sales of capacity and energy from a new generation facility, known as the Garnet Energy Facility, to be constructed in Canyon County, Idaho.

Comment Date: March 20, 2002.

Standard Paragraph

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-5551 Filed 3-7-02; 8:45 am]

BILLING CODE 6717-01-P